NUCLEAR REGULATORY COMMISSION

[NRC-2025-0001]

Sunshine Act Meetings

TIME AND DATE: Weeks of March 17, 24, 31, April 7, 14 and 21, 2025. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of March 17, 2025

There are no meetings scheduled for the week of March 17, 2025.

Week of March 24, 2025—Tentative

There are no meetings scheduled for the week of March 24, 2025.

Week of March 31, 2025—Tentative

There are no meetings scheduled for the week of March 31, 2025.

Week of April 7, 2025—Tentative

Tuesday, April 8, 2025

10:00 a.m. Meeting with the Advisory Committee on the Medical Uses of Isotopes (Public Meeting) (Contact: Candace Spore: 301-415-8537; Katherine Tapp: 301-415-0236)

Additional Information: The meeting will be held in the Commissioners' Hearing Room, 11555 Rockville Pike, Rockville, Maryland. The public is invited to attend the Commission's meeting in person or watch live via webcast at the Web address— https://video.nrc.gov/.

Thursday, April 10, 2025

9:00 a.m. Micro-reactors: Current Status and Moving Forward (Public Meeting) (Contact: Jessica Lovett: 301-415-4002)

Additional Information: The meeting will be held in the Commissioners' Hearing Room, 11555 Rockville Pike, Rockville, Maryland. The public is invited to attend the Commission's meeting in person or watch live via webcast at the Web address— https://video.nrc.gov/.

Week of April 14, 2025—Tentative

There are no meetings scheduled for the week of April 14, 2025.

Week of April 21, 2025—Tentative

There are no meetings scheduled for the week of April 21, 2025.

CONTACT PERSON FOR MORE INFORMATION: For more information or to verify the status of meetings, contact Chris Markley at 301-415-6293 or via email at Christopher.Markley@nrc.gov.

The NRC is holding the meetings under the authority of the Government in the Sunshine Act, 5 U.S.C. 552b.

Dated: March 12, 2025.
For the Nuclear Regulatory Commission.
Christopher Markley,
Policy Coordinator, Office of the Secretary.

[FR Doc. 2025-04309 Filed 3-12-25; 4:15 pm]

BILLING CODE 7590-01-P